DEPARTMENT OF COMMERCE

National Institute of Standards and Technology

Partially Closed Meeting of the Information Security and Privacy Advisory Board

AGENCY: National Institute of Standards and Technology, Department of Commerce.

ACTION: Notice of partially closed meeting.

SUMMARY: The Director of the National Institute of Standards and Technology announces that the Information Security and Privacy Advisory Board will meet Wednesday, July 29, 2009 from 8:30 a.m.. until 5 p.m., Thursday, July 30, 2009, from 8:30 a.m. until 5 p.m., and Friday, July 31, 2009 from 8 a.m. until 4 p.m. The portion of the meeting held from 1 p.m. until 4 p.m. on Friday July 31, 2009 will be closed to the public.

DATES: The meeting will be held on July 29, 2009, from 8:30 a.m. until 5 p.m., July 30, 2009, from 8:30 a.m. until 5 p.m. and July 31, 2009, from 8 a.m. until 4 p.m. The portion of the meeting held from 1 p.m. until 4 p.m. on Friday July 31, 2009 will be closed to the public.

ADDRESSES: The meeting will take place at the George Washington University Cafritz Conference Center, 800 21st Street, NW., Room 403, Washington, DC on July 29, 30, & 31, 2009.

FOR FURTHER INFORMATION CONTACT: Ms. Pauline Bowen, ISPAB Secretariat, Information Technology Laboratory, National Institute of Standards and Technology, 100 Bureau Drive, Stop 8930, Gaithersburg, MD 20899-8930, telephone: (301) 975-2938.

SUPPLEMENTARY INFORMATION: Pursuant to the Federal Advisory Committee Act, 5 U.S.C. App., notice is hereby given that the Information Security and Privacy Advisory Board (ISPAB) will meet Wednesday, July 29, 2009 from 8:30 a.m. until 5 p.m., Thursday, July 30, 2009, from 8:30 a.m. until 5 p.m., and Friday, July 31, 2009 from 8 a.m. until 4 p.m. The portion of the meeting held from 1 p.m. until 4 p.m. on Friday July 31, 2009 will be closed to the public.

The Assistant Secretary for Administration, with the concurrence of the Assistant General Counsel for Administration, formally determined on July 9, 2009, that a portion of the meeting of the Information Security and Privacy Advisory Board that involves discussions regarding classified information about the 60 Day Cybersecurity Report may be closed in accordance with 5 U.S.C. 552b(c)(1). All individuals attending the closed portion of the meeting must provide proof of clearance status before attending the meeting. All other portions of this meeting will be open to the public. The closed portion of the meeting is scheduled to begin at 1 p.m. and to end at 4 p.m. on Friday, July 31, 2009. All other portions of the meeting will be open to the public. The agenda may change to accommodate Board business. The final agenda will be posted on the Web site http://csrc.nist.gov/groups/SMA/ispab/index.html/.

The ISPAB was established by the Computer Security Act of 1987 (Pub. L. 100-235) and amended by the Federal Information Security Management Act of 2002 (Pub. L. 107-347) to advise the Secretary of Commerce and the Director of NIST on security and privacy issues pertaining to Federal computer systems. Details regarding the ISPAB's activities are available at http://csrc.nist.gov/groups/SMA/ispab/index.html/.

Agenda:

—Data.Gov Panel.

—Cloud/Social Media Panel.

—CNSS/DOD/NIST Collaborative work (SP 800-53 v3).

—TIC External Connections.

—Metrics.

—Software Assurance and Supply Chain.

—Privacy Report.

—National Protection and Programs Directorate Briefing.

—Information Assurance.

—Board Discussion and Work Plans.

—Discussion of 60 Day Report (closed session).

Note that agenda items may change without notice because of possible unexpected schedule conflicts of presenters. The final agenda will be posted on the Web site indicated above.

Public Participation: The ISPAB agenda will include a period of time, not to exceed thirty minutes, for oral comments from the public (Thursday, July 30, 2009, at 3 p.m.—3:30 p.m.). Each speaker will be limited to five minutes. Members of the public who are interested in speaking are asked to contact the ISPAB Secretariat at the telephone number indicated above. In addition, written statements are invited and may be submitted to the ISPAB at any time. Written statements should be directed to the ISPAB Secretariat, Information Technology Laboratory, 100 Bureau Drive, Stop 8930, National Institute of Standards and Technology, Gaithersburg, MD 20899-8930. Approximately 15 seats will be available for the public and media on July 29—31, 2009.

Dated: July 9, 2009.
Patrick Gallagher,
Deputy Director.

[FR Doc. E9-16640 Filed 7-13-09; 8:45 am]

BILLING CODE 3510-13- P